DEPARTMENT OF ENERGY

Federal Energy Regulatory Commission

[Project No. 2780-011]

Solano Irrigation District; Notice of Intent To File License Application, Filing of Pre-Application Document, and Approving Use of The Traditional Licensing Process

a. Type of Filing: Notice of Intent to File License Application and Request to Use the Traditional Licensing Process.

b. Project No.: 2780-011.

c. Dated Filed: December 12, 2025.

d. Submitted By: Solano Irrigation District.

e. Name of Project: Monticello Power Plant Project.

f. Location: The existing project is located approximately 8.5 miles west of the city of Winters, in Napa, Solano, and Yolo counties, California.

g. Filed Pursuant to: 18 CFR 5.3 of the Commission's regulations.

h. Applicant Contact: Cary Keaten, General Manager, Solano Irrigation District, 810 Vaca Valley Parkway, Suite 201, Vacaville, California 95688, (707) 455-4009, ckeaten@sidwater.org.

i. FERC Contact: Shannon Archuleta at (503) 522-2739 or email at shannon.archuleta@ferc.gov.

j. Solano Irrigation District filed its request to use the Traditional Licensing Process on December 12, 2025, and provided public notice of its request on December 10, 11, and 12, 2025. In a letter dated February 25, 2026, the Director of the Division of Hydropower Licensing approved the Solano Irrigation District's request to use the Traditional Licensing Process.

k. With this notice, we are initiating informal consultation with the U.S. Fish and Wildlife Service under section 7 of the Endangered Species Act and the joint agency regulations thereunder at 50 CFR, Part 402; and NOAA Fisheries under section 305(b) of the Magnuson-Stevens Fishery Conservation and Management Act and implementing regulations at 50 CFR 600.920. We are also initiating consultation with the California State Historic Preservation Officer, as required by section 106, National Historic Preservation Act, and the implementing regulations of the Advisory Council on Historic Preservation at 36 CFR 800.2.

l. With this notice, we are designating Solano Irrigation District as the Commission's non-federal representative for carrying out informal consultation, pursuant to section 7 of the Endangered Species Act and section 106 of the National Historic Preservation Act.

m. Solano Irrigation District filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

You may register online at https://ferconline.ferc.gov/FERCOnline.aspx to be notified via email of new filings and issuances related to this or other pending projects. For assistance, contact FERC Online Support.

o. For public inquiries and assistance with making filings such as interventions, comments, or requests for rehearing, contact the Office of Public Participation at (202) 502-6595 or OPP@ferc.gov.

(Authority: 18 CFR 2.1)

Dated: February 25, 2026.
Debbie-Anne A. Reese,
Secretary.

[FR Doc. 2026-04131 Filed 3-2-26; 8:45 am]

BILLING CODE 6717-01-P